OFFICE OF MANAGEMENT AND BUDGET

Office of Federal Procurement Policy

DEPARTMENT OF DEFENSE

GENERAL SERVICES ADMINISTRATION

NATIONAL AERONAUTICS AND SPACE ADMINISTRATION

[OMB Control No. 9000-0136; Docket No. FAR-2025-0053; Sequence No. 9]

Submission for OMB Review; Commercial Acquisitions

AGENCY: Office of Federal Procurement Policy (OFPP), Office of Management and Budget (OMB); Department of Defense (DOD); General Services Administration (GSA); and National Aeronautics and Space Administration (NASA).

ACTION: Notice.

SUMMARY: Under the provisions of the Paperwork Reduction Act, the Regulatory Secretariat Division has submitted to OMB a request to review and approve an extension of a previously approved information collection requirement regarding commercial acquisitions.

DATES: Submit comments on or before August 4, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: FARPolicy@gsa.gov or call 202-969-4075.

SUPPLEMENTARY INFORMATION:

A. OMB Control Number, Title, and Any Associated Form(s)

9000-0136, Commercial Acquisitions.

B. Need and Uses

This clearance covers the information that offerors may be required to submit to comply with the following Federal Acquisition Regulation (FAR) requirements:

FAR 52.212-3, Offeror Representations and Certifications—Commercial Products and Commercial Services. Paragraph (b)(2) requires offerors to identify the applicable paragraphs at (c) through (v) of this provision that the offeror has completed for the purposes of the relevant solicitation only, if any. The provision stipulates that any changes provided by the offeror under paragraph (b)(2) are applicable to that specific solicitation only, and do not result in an update to the representations and certifications posted electronically in the System for Award Management. The contracting officer will use the information to determine an offeror's eligibility for award, and to incorporate appropriate terms and conditions into a resulting contract as appropriate.

C. Annual Burden

Respondents: 140,055.

Total Annual Responses: 414,909.

Total Burden Hours: 207,455.

D. Public Comment

A 60-day notice was published in the Federal Register at 90 FR 14450, on April 2, 2025. Three comments were received; however, they did not change the estimate of the burden.

Summary of Comments: A respondent indicated that the collection is a good way to make sure the project can achieve its objective. Another respondent indicated that the collection ensures offerors take responsibility to comply with the regulatory requirements. Another respondent expressed support for the collection to prevent waste, fraud, and abuse.

Response: The respondents' input is appreciated. The respondents did not oppose the extension of the collection of information.

Obtaining Copies: Requesters may obtain a copy of the information collection documents from the GSA Regulatory Secretariat Division by calling 202-501-4755 or emailing GSARegSec@gsa.gov. Please cite OMB Control No. 9000-0136, Commercial Acquisitions.

Janet Fry,
Director, Federal Acquisition Policy Division, Office of Governmentwide Acquisition Policy, Office of Acquisition Policy, Office of Governmentwide Policy.

[FR Doc. 2025-12446 Filed 7-2-25; 8:45 am]

BILLING CODE 6820-EP-P